DEPARTMENT OF TRANSPORTATION

Federal Aviation Administration

First Meeting: RTCA Special Committee 226 Audio Systems and Equipment

AGENCY: Federal Aviation Administration (FAA), U.S. Department of Transportation (DOT).

ACTION: Notice of RTCA Special Committee 226, Audio Systems and Equipment.

SUMMARY: The FAA is issuing this notice to advise the public of a meeting of RTCA Special Committee 226, Audio Systems and Equipment, for the first meeting.

DATES: The meeting will be held January 10-12, 2012, from 9 a.m.-5 p.m.

ADDRESSES: The meeting will be held at RTCA, Inc., 1150 18th Street NW., Suite 910, Washington, DC 20036.

FOR FURTHER INFORMATION CONTACT: The RTCA Secretariat, 1150 18th Street NW., Suite 910, Washington, DC 20036, or by telephone at (202) 833-9339, fax at (202) 833-9434, or Web site at http://www.rtca.org.

SUPPLEMENTARY INFORMATION: Pursuant to section 10(a)(2) of the Federal Advisory Committee Act (Pub. L. 92-463, 5 U.S.C., App.), notice is hereby given for a Special Committee 226, Audio Systems and Equipment. The agenda will include the following:

January 10-12, 2012

• Welcome and Administrative Remarks

• Introductions

• RTCA Overview

• Audio Systems and Equipment—Background and History

• Agenda Overview

• Committee Scope, Terms of Reference Overview

• Organization of Work, Assign Tasks and Work Groups, Discussion, Recommendations and Assignment of Responsibilities

• Other Business

• Establish Agenda for Next Meeting

• Date and Place of Next Meeting

• Adjourn

Attendance is open to the interested public but limited to space availability. With the approval of the chairman, members of the public may present oral statements at the meeting. Persons wishing to present statements or obtain information should contact the person listed in the FOR FURTHER INFORMATION CONTACT section. Members of the public may present a written statement to the committee at any time.

Issued in Washington, DC, on December 15, 2011.
Robert L. Bostiga,
Manager, Business Operations Branch, Federal Aviation Administration.

[FR Doc. 2011-32863 Filed 12-21-11; 8:45 am]

BILLING CODE 4910-13-P